FEDERAL COMMUNICATIONS COMMISSION

47 CFR Part 73

[DA 08-29; MB Docket No. 07-143; RM-11381]

Radio Broadcasting Service; Charlo, MT

AGENCY: Federal Communications Commission.

ACTION: Final rule.

SUMMARY: The Audio Division grants a petition for rulemaking filed by Spanish Peaks Broadcasting, Inc. for a new allotment at Charlo, Montana. Channel 251C3 can be allotted at Charlo, Montana, in compliance with the Commission's technical engineering requirements, at 47-32-20 North Latitude and 114-08-52 West Longitude with a site restriction of 11.3 kilometers (7.0 miles) north of Charlo, Montana.

DATES: Effective February 18, 2008.

ADDRESSES: Secretary, Federal Communications Commission, 445 Twelfth Street, SW., Washington, DC 20554.

FOR FURTHER INFORMATION CONTACT: R. Barthen Gorman, Media Bureau, (202) 418-2187.

SUPPLEMENTARY INFORMATION: This is a synopsis of the Commission's Report and Order, MB Docket No. 07-143, adopted January 2, 2008, and released January 4, 2008. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Montana, is amended by adding Charlo, Channel 251C3.

Federal Communications Commission.
John A. Karousos,
Assistant Chief, Audio Division, Media Bureau.

[FR Doc. E8-1335 Filed 1-24-08; 8:45 am]

BILLING CODE 6712-01-P